SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and an extenstion of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than September 29, 2014. Individuals can obtain copies of the collection instruments by writing to the above email address.

1. General Request for Social Security Records—eFOIA—20 CFR 402.130—0960-0716. Interested members of the public use this electronic request to ask SSA for information under the Freedom of Information Act (FOIA). SSA also uses this collection to track the number and type of information requests; fees charged; payment amounts; and SSA's responses to public requests within the required 20 days. Respondents are members of the public including individuals, institutions, or agencies requesting information or documents under FOIA.

Type of Request: Revision of an OMB-approved information collection.

Modality of completion | Number of respondents | Frequency of response | Average burden per response (minutes) | Estimated total annual burden (hours)
eFOIA | 2,500 | 1 | 3 | 125

2. Incoming and Outgoing Intergovernmental Personnel Act Assignment Agreement—5 CFR 334—0960-0792. The Intergovernmental Personnel Act (IPA) mobility program provides for the temporary assignment of civilian personnel between the Federal Government and State and local governments; colleges and universities; Indian tribal governments; federally-funded research and development centers; and other eligible organizations. The Office of Personnel Management (OPM) created a generic form, the OF-69, for agencies to use as a template when collecting information for the IPA assignment. The OF-69 collects specific information about the agreement, including (1) the enrolled employee's name, Social Security number, job title, salary, classification, and address; (2) the type of assignment; (3) the reimbursement arrangement, and (4) an explanation of how the assignment benefits both SSA and the non-federal organization involved in the exchange. OPM directs agencies to use their own forms for recording these agreements. Accordingly, SSA modified the OF-69 to meet our needs, creating the SSA-187 for incoming employees and the SSA-188 for outgoing employees. Respondents are the individuals we describe above who participate in the IPA exchange with SSA.

Type of Request: Revision of an OMB-approved information collection.

Modality of completion | Number of respondents | Frequency of response | Average burden per response (minutes) | Estimated total annual burden (hours)
Non-Federal employee | 10 | 1 | 30 | 5
Non-Federal employer signers | 20 | 1 | 5 | 2
Totals | 30 |  |  | 7

II. SSA submitted the information collections below to OMB for clearance. Your comments regarding the information collections would be most useful if OMB and SSA receive them 30 days from the date of this publication. To be sure we consider your comments, we must receive them no later than September 2, 2014. Individuals can obtain copies of the OMB clearance packages by writing to OR.Reports.Clearance@ssa.gov.

1. Information Collections Conducted by State Disability Determination Services on Behalf of SSA—20 CFR, subpart P, 404.1503a, 404.1512, 404.1513, 404.1514 404.1517, 404.1519; 20 CFR subpart Q, 404.1613, 404.1614, 404.1624; 20 CFR subpart I, 416.903a, 416.912, 416.913, 416.914, 416.917, 416.919 and 20 CFR subpart J, 416.1013, 416.1024, 416.1014—0960-0555. State Disability Determination Services (DDS) collect the information necessary to administer the Social Security Disability Insurance and Supplemental Security Income (SSI) programs. They collect medical evidence from consultative examination (CE) sources, credential information from CE source applicants, and medical evidence of record (MER) from claimants' medical sources. The DDSs collect information from claimants regarding medical appointments, pain, symptoms, and impairments. The respondents are medical providers, other sources of MER, and disability claimants.

Type of Request: Extension of an OMB-approved information collection.

CE Collections

There are three CE information collections: (a) Medical evidence about claimants' medical condition(s) that DDS's use to make disability determinations when the claimant's own medical sources cannot or will not provide the required information, and proof of credentials from CE providers; (b) CE appointment letters; and (c) CE claimant reports sent to claimants' doctors.

(a) Medical Evidence and Credentials From CE Providers

Modality of completion | Number of respondents | Frequency of response | Average burden per response (minutes) | Estimated total annual burden (hours)
CE Paper Submissions | 1,400,000 | 1 | 30 | 700,000
CE Electronic Submissions | 296,000 | 1 | 10 | 49,333
CE Credentials | 4,000 | 1 | 15 | 1,000
Totals | 1,700,000 |  |  | 750,333

(b) CE Appointment Letters and (c) CE Claimants' Report to Medical Providers

Modality of completion | Number of respondents | Frequency of response | Average burden per response (minutes) | Estimated total annual burden (hours)
b) CE Appointment Letters | 880,000 | 1 | 5 | 73,333
c) CE Claimants' Report to Medical Providers | 450,000 | 1 | 5 | 37,500
Totals | 1,330,000 |  |  | 110,833

MER Collections

The DDS's collect MER information from the claimant's medical sources to determine a claimant's physical or mental status prior to making a disability determination.

Modality of completion | Number of respondents | Frequency of response | Average burden per response (minutes) | Estimated total annual burden (hours)
Paper Submissions | 3,150,000 | 1 | 20 | 1,050,000
Electronic Submissions | 9,450,000 | 1 | 12 | 1,890,000
Totals | 12,600,000 |  |  | 2,940,000

Pain/Other Symptoms/Impairment Information From Claimants

The DDSs use information about pain/symptoms to determine how pain/symptoms affect the claimant's ability to do work-related activities prior to making a disability determination.

Modality of completion | Number of respondents | Frequency of response | Average burden per response (minutes) | Estimated total annual burden (hours)
Pain/Other Symptoms/Impairment Information | 2,100,000 | 1 | 20 | 700,000

The total estimated annual burden for all categories described in this information collection is 4,501,166 hours.

Note: This is a correction notice: SSA published this information collection as a revision and with incorrect burden information at 79 FR 26798 on 05/09/14. We are correcting this error here.

2. Authorization to Disclose Information to SSA—20 CFR 404.1512 and 416.912, 45 CFR 160 and 164—0960-0623. Sections 223(d)(5)(A) and 1614(a)(3)(H)(i) of the Social Security Act require claimants to furnish such medical and other evidence as the Commissioner of Social Security may require to prove that they are disabled. SSA must obtain sufficient evidence to make eligibility determinations for Title II and Title XVI payments. Therefore, the applicant must authorize release of information from various sources to SSA. The applicants use Form SSA-827 to provide consent for the release of medical records, education records, and other information related to their ability to perform tasks. Once the applicant completes Form SSA-827, SSA or the State DDS sends the form to the designated source(s) to obtain pertinent records. The respondents are applicants for Title II benefits and Title XVI payments.

Type of Request: Revision of an OMB-approved information collection.

Modality of completion | Number of respondents | Frequency of response | Average burden per response (minutes) | Estimated total annual burden (hours)
SSA-827 with electronic signature (eAuthorization) | 1,922,938 | 1 | 9 | 288,441
SSA-827 with wet signature (paper version) | 1,441,052 | 1 | 10 | 240,175
Totals | 3,363,990 |  |  | 528,616

Dated: July 28, 2014.
Faye Lipsky,
Reports Clearance Director, Social Security Administration.

[FR Doc. 2014-17994 Filed 7-30-14; 8:45 am]

BILLING CODE 4191-02-P